ENVIRONMENTAL PROTECTION AGENCY

[FRL-6972-9]

Proposed Settlement, Clean Air Act Citizen Suit

AGENCY: Environmental Protection Agency.

ACTION: Notice of proposed consent decree; request for public comment.

SUMMARY: In accordance with section 113(g) of the Clean Air Act, as amended (“Act”), 42 U.S.C. 7413(g), notice is hereby given of a proposed consent decree which was lodged with the United States District Court for the Northern District of California by the United States Environmental Protection Agency (“EPA”) on April 16, 2001 to address a lawsuit filed by Our Children's Earth Foundation. This lawsuit, which was filed pursuant to section 304(a) of the Act, 42 U.S.C. 7604(a), addresses EPA's alleged failure to publish a comprehensive document for each State in EPA Region 9, setting forth all requirements of each such State's applicable State Implementation Plan under section 110(h) of the Act, 42 U.S.C. 7410(h). Our Children's Earth Foundation v. EPA, Civil No. C-01-1475 EDL (N.D. Cal.).

DATES: Written comments on the proposed consent decree must be received by June 14, 2001.

ADDRESSES: Written comments should be sent to Jeff Wehling, Office of Regional Counsel, U.S. Environmental Protection Agency Region 9, 75 Hawthorne Street, San Francisco, CA 94105. Copies of the proposed consent decree are available from Janet Taber, (415) 744-1341.

SUPPLEMENTARY INFORMATION: The Clean Air Act requires EPA to assemble and publish a comprehensive document for each State setting forth all requirements of the applicable implementation plan for such State. See section 110(h), 42 U.S.C. 7410(h). Such an applicable plan is referred to as a State implementation plan or “SIP.” Under the proposed consent decree, EPA shall make available to the general public on the Region 9 website (i.e., make “web accessible”) certain information concerning the SIPs. This information shall include a log of current EPA-approved SIP rules for each local air quality management district or air pollution control district within Region 9 (referred to as “District”) showing approval dates and Federal Register citations and a copy of the rules themselves. In addition, EPA shall make web accessible summaries of the SIP commitments made by each District in local plans developed under part D of Title I of the Act, as amended in 1990. These plan summaries shall identify each control measure approved by EPA for adoption and implementation by the District, the emissions reductions to which the District has committed, the schedule of adoption and implementation dates to which the District has committed, and any rule number for the SIP rule adopted by the District relating to the control measure. The proposed consent decree provides for a series of deadlines for making these SIP requirements web accessible with the last such deadline occurring on March 31, 2002.

For a period of thirty (30) days following the date of publication of this notice, EPA will receive written comments relating to the proposed consent decree from persons who were not named as parties to the litigation in question. EPA or the Department of Justice may withhold or withdraw consent to the proposed consent decree if the comments disclose facts or circumstances that indicate that such consent is inappropriate, improper, inadequate, or inconsistent with the requirements of the Act. Unless EPA or the Department of Justice determines, following the comment period, that consent is inappropriate, the final consent decree will then be executed by the parties.

Dated: April 24, 2001.
Anna L. Wolgast,
Acting General Counsel.

[FR Doc. 01-12208 Filed 5-14-01; 8:45 am]

BILLING CODE 6560-50-P